DEPARTMENT OF THE INTERIOR

Office of the Secretary

Privacy Act of 1974; Amendment of Existing System of Records

AGENCY: Office of the Secretary.

ACTION: Proposed amendment of existing Privacy Act system of records.

SUMMARY: In accordance with the Privacy Act of 1974 (5 U.S.C. 552a), the Office of the Secretary of the Department of the Interior is issuing public notice of its intent to amend an existing Privacy Act system of records notice, Interior, DOI-90, “Federal Financial System.” The changes will update the name of the system, system location, categories of individuals covered by the system, categories of records in the system, routine uses of records, storage and safeguard requirements, retrievability of records, and system manager(s) and address(es).

DATES: Comments must be received by September 8, 2008.

ADDRESSES: Any persons interested in commenting on these proposed amendments to an existing system of records may do so by submitting comments in writing to the Office of the Secretary Acting Privacy Act Officer, Linda Thomas, U.S. Department of the Interior, MS-116 SIB, 1951 Constitution Avenue, NW., Washington, DC 20240, or by e-mail to Linda_Thomas@nbc.gov.

FOR FURTHER INFORMATION CONTACT: Office of the Secretary Acting Privacy Act Officer, Linda Thomas, U.S. Department of the Interior, MS-116 SIB, 1951 Constitution Avenue, NW., Washington, DC 20240, or by e-mail to Linda_Thomas@nbc.gov.

SUPPLEMENTARY INFORMATION: The Office of the Secretary is proposing to amend an existing Privacy Act system of records notice, Interior, DOI-90, “Federal Financial System,” because the Department of the Interior (DOI) is in the process of replacing the Federal Financial System (FFS) with the Financial and Business Management System (FBMS). In the process, it is restricting the contents of this particular system of records to those pertaining to the acquisition of goods and services within DOI to identify more clearly the categories of records included in this system and the parties to whom these records may be disclosed on a routine basis, and renaming the system DOI-87, “Acquisition of Goods and Services: FBMS.” Other portions of the records previously covered by Interior, DOI-90 will be covered by Interior, DOI-86, “Accounts Receivable: FBMS,” Interior, DOI-88, “Travel Management: FBMS,” and Interior, DOI-89, “Grants and Cooperative Agreements: FBMS.” Interior, DOI-90 will be deleted upon final publication of all four of these notices.

FBMS will provide the Department of the Interior with standard business practices supported by a single, integrated finance and administrative system for all bureaus; it will help DOI manage a variety of business functions, including the acquisition of goods and services. FBMS takes a comprehensive approach to improving the current business functions in its core systems by replacing DOI's current computer systems with modern software. The combination of standardized business practices and enhanced computer system functionality will enable DOI's bureaus and offices to improve service to their customers and to operate more efficiently. Benefits gained from implementing this suite of applications will include the ability to access and share real-time, accurate business information; to support effective business decisions for mission delivery; to issue accurate financial reports and analysis of managerial data; to support timely decision-making in the field; to free-up more time for mission-focused activities; to focus on value-added analysis rather than data gathering; and to eliminate redundant administrative tasks and multiple login screens.

DOI has adopted a multi-year, phased approach to implementing FBMS, both in terms of functionality, and in terms of the migration of the Department's component bureaus and offices from FFS and other associated systems, to FBMS. DOI plans to complete its implementation of FBMS by calendar year 2013.

Towards that end, these amendments will be effective as proposed at the end of the comment period unless comments are received which would require a contrary determination. The Department will publish a revised notice if changes are made based upon a review of comments received.

Linda Thomas,
Office of the Secretary Acting Privacy Officer.

SYSTEM NAME:

Interior, DOI-87, “Acquisition of Goods and Services: FBMS.”

Note: This system complements GSA/GOVT-6, the GSA SmartPay Purchase Charge Card Program maintained by the General Services Administration. This notice incorporates by reference but does not repeat all of the information contained in GSA/GOVT-6.

SYSTEM LOCATION:

(1) Financial and Procurement Systems Division, Budget and Finance, National Business Center, MS D-2790, 7301 West Mansfield Avenue, Denver, CO 80235-2230.

(2) Commercial credit card contractor(s) maintaining information on employee usage of the integrated charge card's purchase and fleet business lines.

CATEGORIES OF INDIVIDUALS COVERED BY THE SYSTEM:

(1) Employees of the Department of the Interior's bureaus/offices who use the Government charge card for the purchase and fleet business lines.

(2) Individual and corporate vendors, consultants, contractors, etc. from whom goods and services are acquired.

Note: This system contains records relating to corporations and other business entities. However, only records containing personal information relating to individuals are subject to the Privacy Act.

CATEGORIES OF RECORDS IN THE SYSTEM:

Names of individuals; Employee Identification Numbers and taxpayer identification numbers; Social Security Numbers; bank account information, Electronic Funds Transfer (EFT) data; business addresses (including ZIP Codes) and, as applicable, organizational codes; home addresses and telephone numbers (individuals); Government charge card numbers; e-mail addresses; billing, payment, and property accountability information; Dun and Bradstreet (DUNS) number; contractor monthly reports showing charges to individual accounts, account balances, and other data required to authorize, account for, and pay authorized purchase and fleet transactions; NAICS Codes, socio-economic business categories.

AUTHORITY FOR MAINTENANCE OF THE SYSTEM:

Chapter 1 of Title 48, CFR Chapter 1 (Federal Acquisition Regulation).

ROUTINE USES OF RECORDS MAINTAINED IN THE SYSTEM, INCLUDING CATEGORIES OF USERS AND THE PURPOSE OF SUCH USES:

The primary use of the records is to maintain accounting and financial information associated with the acquisition of goods and services. Specifically, records are used:

(1) For paying creditors.

(2) For accounting for goods and services provided and received.

(3) For accounting for funds paid and received.

Records in this system are subject to use in approved computer matching programs authorized under the Privacy Act of 1974, as amended, for debt collection purposes.

Other disclosures outside the Department of the Interior may be made:

(1) To the Department of the Treasury for payment of claims.

(2) To other Federal agencies for the purpose of collecting debts owed to the Federal government.

(3) To a Government charge card company for the purpose of issuing credit cards and for billing purposes, including the collection of past due amounts.

(4) To consumer reporting agencies to facilitate the collection of debts owed the Government.

(5)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(6) To a congressional office in response to a written inquiry that an individual covered by the system, or the heir of such individual if the covered individual is deceased, has made to the office.

(7) To any criminal, civil, or regulatory law enforcement authority (whether Federal, state, territorial, local, tribal or foreign) when a record, either alone or in conjunction with other information, indicates a violation or potential violation of law—criminal, civil, or regulatory in nature, and the disclosure is compatible with the purpose for which the records were compiled.

(8) To an official of another Federal agency to provide information needed in the performance of official duties related to reconciling or reconstructing data files or to enable that agency to respond to an inquiry by the individual to whom the record pertains.

(9) To Federal, state, territorial, local, tribal, or foreign agencies that have requested information relevant or necessary to the hiring, firing, or retention of an employee or contractor, or the issuance of a security clearance, license, contract, grant, or other benefit, when the disclosure is compatible with the purpose for which the records were compiled.

(10) To representatives of the National Archives and Records Administration to conduct records management inspections under the authority of 44 U.S.C. 2904 and 2906.

(11) To state and local governments and tribal organizations to provide information needed in response to court order and/or discovery purposes related to litigation, when the disclosure is compatible with the purpose for which the records were compiled.

(12) To an expert, consultant, or contractor (including employees of the contractor) of DOI that performs services requiring access to these records on DOI's behalf to carry out the purposes of the system.

(13) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(14) To the Office of Management and Budget during the coordination and clearance process in connection with legislative affairs as mandated by OMB Circular A-19.

(15) To the Department of the Treasury to recover debts owed to the United States.

(16) To the news media when the disclosure is compatible with the purpose for which the records were compiled.

DISCLOSURE TO CONSUMER REPORTING AGENCIES:

Pursuant to 5 U.S.C. 552a(b)(12), disclosures may be made to a consumer reporting agency as defined in the Fair Credit Reporting Act (15 U.S.C. 1681a(f)) or the Federal Claims Collection Act of 1966 (31 U.S.C. 3701(a)(3)).

POLICIES AND PRACTICES FOR STORING, RETRIEVING, ACCESSING, RETAINING AND DISPOSING OF RECORDS IN THE SYSTEM:

STORAGE:

Records are maintained in manual, microfilm, microfiche, electronic, imaged, and computer printout form. Electronic records are stored on magnetic media at the central computer processing center and at facilities maintained by commercial credit card contractor(s). Original input documents are stored in standard office filing equipment and/or as imaged documents on magnetic media at all locations which prepare and provide input documents and information for data processing.

RETRIEVABILITY:

Records are retrieved by name, Social Security Number/Employee Identification Number/Taxpayer Identification Number (individuals), organizational code, vendor code, DUNS Number, and transaction number.

SAFEGUARDS:

FBMS is maintained with controls meeting safeguard requirements identified in Departmental Privacy Act Regulations (43 CFR 2.51) for manual and automated records. Access to records is limited to authorized personnel whose official duties require such access; agency officials have access only to records pertaining to their agencies.

(1) Physical Security: Paper or micro format records are maintained in locked file cabinets and/or in secured rooms.

(2) Technical Security: Electronic records are maintained in conformity with Office of Management and Budget and Departmental guidelines reflecting the implementation of the Federal Information Security Management Act. Electronic data is protected through user identification, passwords, database permissions, and software controls. These security measures establish different degrees of access for different types of users. An audit trail is maintained and reviewed periodically to identify unauthorized access. A Privacy Impact Assessment was completed for FBMS and is updated at least annually to ensure that Privacy Act requirements and personally identifiable information safeguard requirements are met.

(3) Administrative Security: All DOI and contractor employees with access to FBMS are required to complete Privacy Act, Federal Records Act, and Security Awareness training prior to being given access to the system, and on an annual basis, thereafter.

RETENTION AND DISPOSAL:

While records are generally retained and disposed of in accordance with General Records Schedule No. 3, a new records schedule for FBMS is in process in the Office of the Secretary.

SYSTEM MANAGER(S) AND ADDRESS:

(1) The following co-system owners have overall responsibility for the Financial and Business Management System:

(a) Director, Office of Acquisition and Property Management, U.S. Department of the Interior, Office of the Secretary, 1849 C Street NW., MS-2607 MIB, Washington, DC 20240; and

(b) Director, Office of Financial Management, U. S. Department of the Interior, Office of the Secretary, 1849 C Street, NW., MS-2557, Washington, DC 20240.

(2) The following system manager has responsibility for the management and operation of the computing center on which the Financial and Business Management System is being implemented: Chief, Financial and Procurement Systems Division, Budget and Finance, National Business Center, MS D-2790, 7301 West Mansfield Avenue, Denver, CO 80235-2230.

(3) The following Department of the Interior bureau/office system managers have responsibility for the data input into and maintained on the Financial and Business Management System by or for their respective bureaus/offices:

(a) Chief, Division of Administration, Office of Surface Mining Reclamation and Enforcement, 1951 Constitution Ave., NW., MS222, Washington DC 20240.

(b) Chief, Procurement Division, Minerals Management Service, Mail Stop 2310, 381 Elden Street, Herndon, VA 20170-4817.

(c) Chief, Division of Contracting and Facilities Management, U. S. Fish and Wildlife Service, Mail Stop 7118-43, 4401 North Fairfax Drive, Arlington, VA, 22203.

(d) Director, Acquisition and Property Management, Indian Affairs, Ely S. Parker Building, 2051 Mercator Drive, Reston, VA 20191.

(e) Division of Property, Acquisition and Headquarters Services, Bureau of Land Management, 1620 L Street, NW., 10th Floor, Washington, DC 20240.

(f) Manager, Acquisition and Assistance Management, Bureau of Reclamation, PO Box 25007, DFC Attn: 84-27700, Denver, CO 80225-0007.

(g) Chief, Acquisitions Services Directorate, National Business Center, Office of the Secretary, 1849 C Street, NW., MS-2557 MIB, Washington, DC 20240.

(h) Chief of Contracting, Contracting Office, Denver Service Center, National Park Service, 12795 W. Alameda Parkway, Suite 130, Denver, CO 80225.

(i) U.S. Geological Survey, Chief, Office of Acquisition and Grants, Mail Stop 205, 12201 Sunrise Valley Drive, Reston, VA 20192.

(j) Chief, Accounting Operations Division, National Business Center, 7301 West Mansfield Avenue, Mail Stop D-2770, Denver, CO 80235-2230.

NOTIFICATION PROCEDURES:

An individual requesting notification of the existence of records on himself or herself should address his/her request to the appropriate bureau/office System Manager. The request must be in writing, signed by the requester, and meet the content requirements of 43 CFR 2.60.

RECORDS ACCESS PROCEDURES:

An individual requesting access to records maintained on himself or herself should address his/her request to the appropriate bureau/office System Manager. The request must be in writing, signed by the requester, and meet the content requirements of 43 CFR 2.63.

CONTESTING RECORDS PROCEDURES:

An individual requesting amendment of a record maintained on himself or herself should address his/her request to the appropriate bureau/office System Manager. The request must be in writing, signed by the requester, and meet the content requirements of 43 CFR 2.71.

RECORD SOURCE CATEGORIES:

Individuals on whom the records are maintained; contracting officers; finance and accounting personnel (certifying officials); commercial credit card contractor(s), and acquisition, finance, and accounting documents.

EXEMPTIONS CLAIMED FOR THE SYSTEM:

None.

[FR Doc. E8-17248 Filed 7-25-08; 8:45 am]

BILLING CODE 4310-RK-P